DEPARTMENT OF THE INTERIOR

Bureau of Land Management

[LLWO3100000 L13100000 PB0000 241E]

Extension of Approval of Information Collection, OMB Control Number 1004-0137

AGENCY: Bureau of Land Management, Interior.

ACTION: 60-Day Notice and Request for Comments.

SUMMARY: In compliance with the Paperwork Reduction Act, the Bureau of Land Management (BLM) invites public comments on, and plans to request approval to continue, the collection of information from those who wish to participate in the exploration, development, production, and utilization of oil and gas operations on BLM-managed public lands. The Office of Management and Budget (OMB), has assigned control number 1004-0137 to this information collection.

DATES: Please submit comments on the proposed information collection by August 11, 2014.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0137” regardless of the form of your comments.

FOR FURTHER INFORMATION CONTACT: Donnie Shaw, Division of Fluid Minerals, at 202-912-7155 (Commercial or FTS). Persons who use a telecommunication device for the deaf may call the Federal Information Relay Service at 1-800-877-8339, to leave a message for Mr. Shaw.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to the OMB for approval. The Paperwork Reduction Act provides that an agency may not conduct or sponsor a collection of information unless it displays a currently valid OMB control number. Until the OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to the OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Onshore Oil and Gas Operations (43 CFR part 3160).

Forms:

• Form 3160-3, Application for Permit to Drill or Re-enter;

• Form 3160-4, Well Completion or Recompletion Report and Log;

• Form 3160-5, Sundry Notices and Reports on Wells; and

• Form 3160-6, Monthly Report of Operations.

OMB Control Number: 1004-0137.

Summary: Various Federal and Indian mineral leasing statutes authorize the BLM to grant and manage onshore oil and gas leases on Federal and Indian (except Osage Tribe) lands. In order to fulfill its responsibilities under these statutes, the BLM needs to perform the information collection activity set forth in the regulations at 43 CFR part 3160, and in onshore oil and gas orders promulgated in accordance with 43 CFR 3164.1.

Frequency of Collection: On occasion.

Description of Respondents: Lessees and applicants for leases.

Estimated Annual Responses: 235,252.

Estimated Reporting and Recordkeeping “Hour” Burden: 920,464 hours annually.

Estimated “Non-hour” Cost Burden: $32,500,000 annually.

The following table details the individual components and respective hour burden estimates of this information collection request:

A. Type of response | B. Number of responses | C. Hours per response | D. Total hours
Application for Permit to Drill or Re-enter (43 CFR 3162.3-1) Form 3160-3 | 5,000 | 80 | 400,000
Well Completion or Recompletion Report and Log (43 CFR 3162.4-1) Form 3160-4 | 5,000 | 4 | 20,000
Sundry Notices and Reports on Wells (43 CFR 3162.3-2) Form 3160-5 | 35,000 | 8 | 280,000
Plan for Well Abandonment (43 CFR 3162.3-4) | 1,500 | 8 | 12,000
Schematic/Facility Diagrams (43 CFR 3162.4-1(a) and 3162.7-5(d)(1)) | 1,000 | 8 | 8,000
Drilling Tests, Logs, and Surveys (43 CFR 3162.4-2(a)) | 110 | 8 | 880
Disposal of Produced Water (43 CFR 3162.5-1(b), 3164.1, and Onshore Oil and Gas Order No. 7) | 1,500 | 8 | 12,000
Report of Spills, Discharges, or Other Undesirable Events (43 CFR 3162.5-1(c)) | 215 | 8 | 1,720
Contingency Plan (43 CFR 3162.5-1(d)) | 52 | 32 | 1,664
Horizontal and Directional Drilling (43 CFR 3162.5-2(b)) | 2,100 | 8 | 16,800
Well Markers (43 CFR 3162.6) | 1,000 | 8 | 8,000
Gas Flaring (43 CFR 3162.7-1(d), 3164.1, and Notice to Lessees 4A) | 120 | 16 | 1,920
Records for Seals (43 CFR 3162.7-5(b)) | 90,000 | 0.75 | 67,500
Site Security (43 CFR 3162.7-5(c)) | 2,500 | 8 | 20,000
Prepare Run Tickets (43 CFR 3162.7-2, 3164.1, and Onshore Oil and Gas Order No. 4) | 90,000 | 0.75 | 67,500
Application for Suspension or Other Relief (43 CFR 3165.1) | 100 | 16 | 1,600
State Director Review (43 CFR 3165.3(b)) | 55 | 16 | 880
Totals | 235,252 |  | 920,464

Jean Sonneman,
Bureau of Land Management, Information Collection Clearance Officer.

[FR Doc. 2014-13656 Filed 6-10-14; 8:45 am]

BILLING CODE 4310-84-P